DEPARTMENT OF JUSTICE

[OMB Number 1190-NEW]

Agency Information Collection Activities; Proposed eCollection; eComments Requested; Assessing the Potential Monetized Benefits of Captioning Web Content for Individuals Who Are Deaf or Hard of Hearing

AGENCY: Civil Rights Division, Department of Justice.

ACTION: 60-day notice.

SUMMARY: The Department of Justice (DOJ), Civil Rights Division, Disability Rights Section (DRS), will submit the following information collection request to the Office of Management and Budget (OMB) for review and approval in accordance with the Paperwork Reduction Act of 1995 (PRA).

DATES: Comments are encouraged and will be accepted for 60 days until July 11, 2016.

FOR FURTHER INFORMATION CONTACT: If you have additional comments (especially on the estimated public burden or associated response time), suggestions, need a copy of the proposed information collection instrument with instructions, or need additional information, please contact Rebecca B. Bond, Chief, Disability Rights Section, Civil Rights Division, U.S. Department of Justice, by any one of the following methods: By email at CRT.DRS@usdoj.gov; by regular U.S. mail at Disability Rights Section, Civil Rights Division, U.S. Department of Justice, P.O. Box 2885, Fairfax, VA 22031-0885; by overnight mail, courier, or hand delivery at Disability Rights Section, Civil Rights Division, U.S. Department of Justice, 1425 New York Avenue NW., Suite 4039, Washington, DC 20005; or by phone at (800) 514-0301 (voice) or (800) 514-0383 (TTY) (the DRS Information Line).

SUPPLEMENTARY INFORMATION: Written comments and suggestions from the public and affected agencies concerning the proposed collection of information are encouraged. Your comments should address one or more of the following four points:

• Evaluate whether the proposed collection of information is necessary for the proper performance of the function of the agency, including whether the information will have practical utility;

• Evaluate the accuracy of the agency's estimate of the burden of the proposed collection of information, including the validity of the methodology and assumptions used;

• Evaluate whether, and if so, how, the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of information collection: New information collection.

2. The title of the form/collection: Assessing the Potential Monetized Benefits of Captioning Web Content for Individuals Who Are Deaf or Hard of Hearing.

3. The agency form number, if any, and the applicable component of the Department sponsoring the collection:

Form Number: None.

Component: The applicable component within the Department of Justice is the Disability Rights Section in the Civil Rights Division.

4. Affected public who will be asked or required to respond, as well as a brief abstract: Affected Public (Primary): Individuals who are deaf or hard of hearing will be asked to respond.

Affected Public (Other): None.

Abstract: DOJ's Civil Rights Division, Disability Rights Section (DRS), is requesting PRA approval of a new collection that would request information about the perceived monetary value of captioning on Web sites from individuals who are deaf or hard of hearing for the purpose of estimating the potential monetized benefits of captioning audio and video content on the Web. DRS is not suggesting that people with disabilities should be asked to pay for captioning; rather, it intends to ask individuals about the theoretical monetary value that they place on the captioning of audio and video Web content in order to estimate how highly they value captioning. The collection will also request additional information about how frequently individuals who are deaf or hard of hearing access audio content on Web sites, what type of audio content they access, how often this content is not captioned, how much additional time (if any) they spend trying to access content or information when the content is not captioned, and whether lack of captioning makes using the Internet more difficult. This information will enhance DRS's ability to monetize the benefits of any captioning requirements imposed by future rulemaking under the Americans with Disabilities Act (ADA) for individuals who are deaf or hard of hearing.

5. An estimate of the total number of respondents and the amount of time estimated for an average respondent to respond: An estimated 1,070 respondents will complete the questions. It is estimated that an average of 10 minutes per respondent is needed to complete the questions. DRS estimates that nearly all of the approximately 1,070 respondents will fully complete the questions.

6. An estimate of the total public burden (in hours) associated with the collection: The estimated public burden associated with this collection is 178 hours. It is estimated that respondents will take an average of 10 minutes (1/6 of an hour) to complete the questions. The burden hours for collecting respondent data sum to 178.33 hours (1,070 respondents × 1/6 hours = 178 and 1/3 hours).

If additional information is required, contact: Jerri Murray, Department Clearance Officer, United States Department of Justice, Justice Management Division, Policy and Planning Staff, Two Constitution Square, 145 N Street NE., 3E.405B, Washington, DC 20530.

Dated: May 6, 2016.
Jerri Murray,
Department Clearance Officer for PRA, U.S. Department of Justice.

[FR Doc. 2016-11151 Filed 5-11-16; 8:45 am]

BILLING CODE 4410-13-P